DEPARTMENT OF TRANSPORTATION

Office of the Secretary

[Docket No.OST-2003-15511]

Request for Comments

AGENCY: Office of the Secretary, Department of Transportation.

ACTION: Request for comments.

SUMMARY: Under part 375 of the Department's regulations, which covers commercial aviation operations other than common carriage, persons seeking to operate foreign civil aircraft within the United States involving the carriage of persons, property or mail “for remuneration or hire” must obtain a permit from the Department of Transportation. The National Business Aviation Association (NBAA) has written to the Department requesting a policy determination that certain types of operations that companies it represents might perform (such as carriage of a company's own officials and guests, or aircraft time sharing, interchange, or joint ownership arrangements between companies) do not, in fact, constitute operations “for remuneration or hire”. A favorable Department response would eliminate the need for the companies involved to secure a permit for such operations.

The Department of Transportation is soliciting comments from interested parties regarding the NBAA request for a policy determination. The Department intends to consider any such comments in developing a response to the NBAA. The text of the NBAA letter is attached to this notice, and copies of other recent correspondence between the NBAA and the Department regarding part 375 have been placed in the docket.

DATES: Comments to the proposal should be filed on or before July 28, 2003.

ADDRESSES: Comments should be filed in Docket OST-2003-15511 and sent:

(1) By mail to the Docket Management Facility, U.S. Department of Transportation, Room PL-401, 400 Seventh Street, SW., Washington, DC 20590-0001;

(2) By hand delivery to room PL-401 on the Plaza Level of the Nassif Building, 400 Seventh Street, SW., Washington, DC, between 9 a.m. and 5 p.m., Monday through Friday, except Federal holidays. The telephone number is (202) 366-9329; or

(3) Electronically through the Web site for the Docket Management System at http://dms.dot.gov.

FOR FURTHER INFORMATION CONTACT: George Wellington, Chief of U.S. and Foreign Carrier Licensing Division, Office of International Aviation, U.S. Department of Transportation, 400 Seventh Street, SW., Washington, DC 20590, (202) 366-2391.

Dated: June 27, 2003.
Michael W. Reynolds,
Acting Assistant Secretary for Aviation and International Affairs.

BILLING CODE 4910-62-P

[FR Doc. 03-16973 Filed 7-3-03; 8:45 am]

BILLING CODE 4910-62-C